DEPARTMENT OF TRANSPORTATION

Federal Aviation Administration

14 CFR Part 39

[Docket No. FAA-2004-19866; Directorate Identifier 2004-NM-25-AD; Amendment 39-14541; AD 2006-07-14]

RIN 2120-AA64

Airworthiness Directives; Boeing Model 767-200, -300, and -300F Series Airplanes

AGENCY: Federal Aviation Administration (FAA), Department of Transportation (DOT).

ACTION: Final rule.

SUMMARY: The FAA is adopting a new airworthiness directive (AD) for certain Boeing Model 767-200, -300, and -300F series airplanes. This AD requires verifying the part and serial numbers of certain main landing gear (MLG) bogie beam pivot pins; replacing those pivot pins with new or overhauled pivot pins if necessary; and ultimately replacing all pivot pins with new, improved pivot pins. This AD also requires repetitive lubrications and inspections of the pivot pin, and related investigative and corrective actions if necessary. This AD results from reports indicating that numerous fractures of the MLG bogie beam pivot pin have been found and that some pivot pins may have had improper rework during manufacture. We are issuing this AD to prevent fracture of the MLG bogie beam pivot pin, which could lead to possible loss of the MLG truck during takeoff or landing and consequent loss of control of the airplane.

DATES: This AD becomes effective May 12, 2006.

The Director of the Federal Register approved the incorporation by reference of certain publications listed in the AD as of May 12, 2006.

ADDRESSES: You may examine the AD docket on the Internet at http://dms.dot.gov or in person at the Docket Management Facility, U.S. Department of Transportation, 400 Seventh Street, SW., Nassif Building, Room PL-401, Washington, DC.

Contact Boeing Commercial Airplanes, P.O. Box 3707, Seattle, Washington 98124-2207, for service information identified in this AD.

FOR FURTHER INFORMATION CONTACT: Candice Gerretsen, Aerospace Engineer, Airframe Branch, ANM-120S, Seattle Aircraft Certification Office, FAA, 1601 Lind Avenue, SW., Renton, Washington 98055-4056; telephone (425) 917-6428; fax (425) 917-6590.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (SNPRM) to amend 14 CFR part 39 to include an AD that would apply to certain Boeing Model 767-200, -300, and -300F series airplanes. That SNPRM was published in the Federal Register on November 9, 2005 (70 FR 67939). That SNPRM proposed to require verifying the part and serial numbers of certain main landing gear (MLG) bogie beam pivot pins; replacing those pivot pins with new or overhauled pivot pins if necessary; and ultimately replacing all pivot pins with new, improved pivot pins. That SNPRM also proposed to require repetitive lubrications and inspections of the pivot pin, and related investigative and corrective actions if necessary.

Comments

We provided the public the opportunity to participate in the development of this AD. We have considered the comments received.

Request To Revise Paragraph (h)

The Boeing Company requests that the word “inspection” in the last sentence of paragraph (h) of the SNPRM be removed. Boeing notes that there are no inspection requirements in paragraph (h).

We agree. Paragraph (h) contains special lubrication requirements and no inspection requirements. Therefore, we have changed the final rule to clarify that doing the actions in paragraph (j) of the AD terminates the special lubrication requirements of paragraph (h), rather than the inspection requirements.

Request for New Interim Action

The Air Transport Association (ATA), on behalf of American Airlines, does not object to the proposed lubrication and terminating modification, but does not believe any of the three proposed inspection options are viable. ATA and American recommend that the FAA and the manufacturer develop a practical and effective interim action because the daily pin measurements are impractical to perform. ATA and American state that these measurements require accurate and unique tools, and they are also physically awkward. In addition, ATA and American believe that the second proposed option (the ultrasonic inspections) require unique tools and may provide faulty readings due to the stamped part number on the pin. ATA and American believe that these two options for inspections may lead to unnecessary flight cancellation. ATA and American also state that the third option (the detailed inspection) requires pin removal, and there is no value added in removing and reinstalling the old pin. American believes that airlines would prefer to replace the pins at the time of inspection, which may cause an industry shortage of pins.

We partially agree. We agree that ATA and American Airlines have valid concerns, and we recognize that the proposed inspections may not be suitable for each operator. For that reason we carefully considered a variety of inspection methods with varying levels of reliability and corresponding repeat intervals in order to ease the burden on operators. In fact, the manufacturer developed its service information with the participation of the ATA lead airline. Note that no single method is required in order to comply with the AD. By providing alternatives, we consider that a viable inspection method is available to operators. We disagree with re-developing interim actions because a variety of inspection methods have already been provided. If American Airlines wishes to use a new alternative inspection that provides an acceptable level of safety, American Airlines may request an approval of an alternative method of compliance in accordance with the procedures in paragraph letter (l) of this AD. In regard to the availability of pins, the manufacturer has assured us that sufficient new-material pins will be supplied within the replacement schedule of this AD, so an industry shortage of pins should not occur. Given that we have received 11 reports of failed pins since the issuance of the service information that is cited in this AD, interim inspections are necessary until these pins can be replaced. We have not changed the AD in this regard.

Request for Alternate Terminating Action

Japan Airlines notes that the terminating action provided in paragraph (j) of the NPRM is written on the airplane level rather than the component level. Japan Airlines requests that we include as a terminating action in the AD the installation of an overhauled MLG assembly with a new part number (P/N) 161T1145-5 pivot pin in accordance with Boeing 767 Component Maintenance Manual (CMM) 32-11-30, new bogie beam bushings in accordance with Boeing 767 CMM 32-11-50, and inner cylinder pivot bushings in accordance with Boeing 767 CMM 32-11-40. Japan Airlines believes that installing an overhauled MLG assembly with the new part number is the same action as Part 5 of Boeing Alert Service Bulletin 767-32A0199, Revision 2, dated May 26, 2005.

We partially agree. We infer that Japan Airlines wants to track AD compliance by tracking MLG modification status rather than tracking airplane status. We agree that installing an overhauled MLG assembly with a new part number (P/N) 161T1145-5 pivot pin, is the same as the terminating action provided in paragraph (j) of the NPRM; this action would bring the airplane into compliance. However, by regulation AD compliance is tracked at the airplane level rather than at the component level. For this reason we do not agree with the commenter's request. We have not changed the AD in this regard.

Request To Revise Costs of Compliance

The Boeing Company states that the estimated costs in the SNPRM are incomplete and inaccurate. Boeing states that the costs do not reflect those in the manufacturer's service information. In addition, Boeing points out that the costs are a per-pin cost rather than a per-airplane cost.

We partially agree. The cost impact figures discussed in AD rulemaking actions represent only the time necessary to perform the specific actions actually required by the AD. These figures typically do not include incidental costs, such as the time required to gain access and close up, planning time, or time necessitated by other administrative actions. In this case, the costs include only the time to do the inspections, lubrications, and replacement. However, we have revised the last two rows of the Estimated Costs table to multiply by two the costs that were listed in the NPRM as “per pivot pin” to more accurately reflect the costs per airplane.

Explanation of Further Change to NPRM

We have removed Note 2 of the NPRM, which gave a definition of a “detailed inspection.” Boeing Alert Service Bulletin 767-32A0199, Revision 2, now includes this definition.

Conclusion

We have carefully reviewed the available data, including the comments received, and determined that air safety and the public interest require adopting the AD with the changes described previously. We have determined that these changes will neither increase the economic burden on any operator nor increase the scope of the AD.

Costs of Compliance

There are about 857 airplanes of the affected design in the worldwide fleet. The following table provides the estimated costs for U.S. operators to comply with this AD.

Estimated Costs
Action | Work hours | Average labor rate per hour | Parts | Cost per airplane | Number of U.S.-registered airplanes | Fleet costs
Pin Inspection | 1 | $65 | None | $65 | 374 | $24,310.
Repetitive Lubrication | 1 | 65 | None | $65, per lubrication cycle | 374 | $24,310, per lubrication cycle.
Repetitive Inspection Option 1: Length Measurement | 1 | 65 | None | $65, per inpsection cycle | 374 | N/A.
Repetitive Inspection Option 2: Ultrasonic Inspection | 2 | 65 | None | $130, per inspection cyle | 374 | N/A.
Repetitive Inspection Option 3: Detailed Inspection (with Pivot Pin Removed) | 14 | 65 | None | $910, per inspection cycle | 374 | N/A.
Pivot Pin Short-term Replacement (Optional), per pivot pin | 12 | 65 | $5,369 | $11,518 | 374 | N/A.
Terminating Action (Permanent Replacement) | 14 | 65 | $11,686 | $24,282 | 374 | $9,081,468.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-14 Boeing: Amendment 39-14541. Docket No. FAA-2004-19866; Directorate Identifier 2004-NM-25-AD.

Effective Date

(a) This AD becomes effective May 12, 2006.

Affected ADs

(b) None.

Applicability

(c) This AD applies to Boeing Model 767-200, -300, and -300F series airplanes, certificated in any category; as identified in Boeing Alert Service Bulletin 767-32A0202, dated July 22, 2004, and Boeing Alert Service Bulletin 767-32A0199, Revision 2, dated May 26, 2005.

Unsafe Condition

(d) This AD results from reports indicating that numerous fractures of the main landing gear (MLG) bogie beam pivot pin have been found and that some pivot pins may have had improper rework during manufacture. We are issuing this AD to prevent fracture of the MLG bogie beam pivot pin, which could lead to possible loss of the MLG truck during takeoff or landing and consequent loss of control of the airplane.

Compliance

(e) You are responsible for having the actions required by this AD performed within the compliance times specified, unless the actions have already been done.

Inspection for Part Number and Serial Number, and Short-Term Replacement

(f) Within 6 months after the effective date of this AD, do a general visual inspection of the part number (P/N) and serial number (S/N) of the MLG bogie beam pivot pin in accordance with the Accomplishment Instructions of Boeing Alert Service Bulletin 767-32A0202, dated July 22, 2004. A review of airplane maintenance records is acceptable for compliance with this paragraph if the P/N and S/N of the MLG bogie beam pivot pin can be positively determined from that review.

(1) If the S/N of the pivot pin contains the letters “MA” or “MAM,” or if the S/N of the pivot pin is not listed in Figure 1 of the service bulletin, no further action is required by this paragraph.

(2) If any pivot pin has a P/N and S/N that is listed in Figure 1 of the service bulletin: Within 6 months after the effective date of this AD, replace the pivot pin with an overhauled pin having P/N 161T1145-2, -3, or -4, that includes a chrome plate strip as part of the pin overhaul; or with a new-material pin having P/N 161T1145-5; in accordance with paragraph (j) of this AD. Replacing the pin with a new-material pin having P/N 161T1145-5 in accordance with the Accomplishment Instructions of the service bulletin, terminates the requirements of this AD for that pivot pin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Discrepancy Reporting

(g) If any pivot pin has a P/N and S/N listed in Figure 1 of Boeing Alert Service Bulletin 767-32A0202, dated July 22, 2004, submit a report of the inspection required by paragraph (f) of this AD to the Manager, Airline Support, Boeing Commercial Airplanes, P.O. Box 3707, Seattle, Washington 98124-2207, at the applicable time specified in paragraph (g)(1) or (g)(2) of this AD. The report must include the P/N and S/N of the pivot pin, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done before the effective date of this AD: Submit the report within 30 days after the effective date of this AD.

Repetitive Lubrication

(h) Within 30 days after the effective date of this AD: Do the pivot pin special lubrication in accordance with Part 1 of the Accomplishment Instructions of Boeing Alert Service Bulletin 767-32A0199, Revision 2, dated May 26, 2005. Repeat the lubrication thereafter at intervals not to exceed 14 days or 50 flight cycles, whichever occurs earlier. Doing the terminating action in paragraph (j) of this AD ends the special lubrication requirements of this paragraph.

Repetitive Pin Inspections

(i) Except as provided by paragraph (i)(1) and (i)(2) of this AD, at the applicable compliance time specified in paragraph 1.E., “Compliance,” of Boeing Alert Service Bulletin 767-32A0199, Revision 2, including Appendix A, dated May 26, 2005, do one of the following inspections of the installed pivot pin in accordance with the specified part of the service bulletin: Part 2—Length Measurement, Part 3—Ultrasonic Inspection, or Part 4—Detailed Inspection; and do all applicable related investigative and corrective actions before further flight. Repeat the inspection thereafter at the applicable interval specified in paragraph 1.E., “Compliance,” of the service bulletin. Doing the replacement specified in paragraph (j) of this AD ends the inspection requirements of this paragraph.

(1) Where the service bulletin specifies a compliance time based on the release date of Revision 2 of the service bulletin, this AD requires compliance based on the effective date of this AD.

(2) Where the Note at the end of Table 1 in paragraph 1.E., “Compliance,” of the service bulletin specifies to contact Boeing for a longer compliance time for “Group 2 airplanes that have been operated at weights less than 353,000 pounds since pivot pin installation”: Operators must contact the Manager, Seattle Aircraft Certification Office (ACO), FAA, for an alternative method of compliance in accordance with paragraph (l) of this AD for any requests for a longer compliance time.

Terminating Action

(j) At the applicable compliance time in paragraph (j)(1) or (j)(2) of this AD, replace any MLG bogie beam pivot pin having P/N 161T1145-2, -3, or -4, with a new, improved pivot pin having P/N 161T1145-5; and do all applicable related investigative and corrective actions before further flight; in accordance with Part 5 of the Accomplishment Instructions of Boeing Alert Service Bulletin 767-32A0199, Revision 2, dated May 26, 2005. Where the Note at the end of Table 1 in paragraph 1.E., “Compliance,” of the service bulletin specifies to contact Boeing for a longer compliance time for “Group 2 airplanes that have been operated at weights less than 353,000 pounds since pivot pin installation”: Operators must contact the Manager, Seattle ACO, for an alternative method of compliance in accordance with paragraph (l) of this AD for any requests for a longer compliance time. Doing the replacement in accordance with this paragraph terminates the requirements of this AD for that pivot pin.

(1) For airplanes identified in the service bulletin as Group 1 airplanes: Within 96 months after the effective date of this AD.

(2) For airplanes identified in the service bulletin as Group 2 airplanes: Within 48 months after the effective date of this AD.

Actions Accomplished According to Previous Issues of Service Bulletin

(k) Replacing any pivot pin with a new, improved pivot pin having P/N 161T1145-5, before the effective date of this AD in accordance with the service bulletins identified in Table 1 of this AD is considered acceptable for compliance with the corresponding action specified in this AD.

Table 1.—Previous Issues of Service Bulletin
Boeing Alert Service Bulletin | Revision | Date
767-32A0199 | Original | April 8, 2004.
767-32A0199 | 1 | July 22, 2004.

Alternative Methods of Compliance (AMOCs)

(l)(1) The Manager, Seattle ACO, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Material Incorporated by Reference

(m) You must use Boeing Alert Service Bulletin 767-32A0202, dated July 22, 2004; and Boeing Alert Service Bulletin 767-32A0199, Revision 2, dated May 26, 2005; as applicable; to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on March 24, 2006.
Ali Bahrami,
Manager, Transport Airplane Directorate, Aircraft Certification Service.

[FR Doc. 06-3194 Filed 4-6-06; 8:45 am]

BILLING CODE 4910-13-P